CONSUMER PRODUCT SAFETY COMMISSION

16 CFR Part 1500

Labeling Requirement for Toy and Game Advertisements; Final Rule

Correction

In rule document E8-26964 beginning on page 67730 in the issue of Monday, November 17, 2008, make the following correction:

§1500.20 [Corrected]

On page 67738, in §1500.20(e)(3), the table and its accompanying footnote text should appear as follows:

Required cautionary statement | Number
16 CFR 1500.19(b)(1) ¹ | 1
16 CFR 1500.19(b)(2) ² | 2
16 CFR 1500.19(b)(3)(i) ³ | 3
16 CFR 1500.19(b)(3)(ii) ⁴ | 4
16 CFR 1500.19(b)(4)(i) ⁵ | 5
16 CFR 1500.19(b)(4)(ii) ⁶ | 6

¹See figure 1.

²See Figure 2.

³See Figure 3.

⁴See Figure 4.

⁵See Figure 5.

⁶See Figure 6.

[FR Doc. Z8-26964 Filed 11-24-08; 8:45 am]

BILLING CODE 1505-01-D